NATIONAL SCIENCE FOUNDATION

Request for Information on the Federal Big Data Research and Development Strategic Plan Update

AGENCY: Networking and Information Technology Research and Development (NITRD) National Coordination Office (NCO), National Science Foundation (NSF).

ACTION: Request for Information (RFI); extension of comment period.

SUMMARY: On July 1, 2022, the NITRD NCO and NSF, as part of the NITRD Big Data interagency working group (BD IWG), published in the Federal Register a document entitled “Request for Information on the Federal Big Data Research and Development Strategic Plan Update”. Through this RFI, the NITRD NCO seeks input from the public, including academia, government, business, and industry groups of all sizes; those directly performing Big Data research and development (R&D); and those directly affected by such R&D, on ways in which the strategic plan should be revised and improved. The public input provided in response to this RFI will assist the NITRD BD IWG in updating the Federal Big Data Research and Development Strategic Plan. In response to requests by prospective commenters that they would benefit from additional time to adequately consider and respond to the RFI, the NITRD NCO and NSF have determined that an extension of the comment period until August 17, 2022, is appropriate.

DATES: The end of the comment period for the document entitled “Request for Information on the Federal Big Data Research and Development Strategic Plan Update”, published on July 1, 2022 (87 FR 39567), is extended from July 29, 2022, until on or before 11:59 p.m. (ET) August 17, 2022.

ADDRESSES: Comments submitted in response to 87 FR 39567 may be sent by any of the following methods:

• Email, BDStrategicPlan-RFI@nitrd.gov: Email submissions should be machine-readable and not be copy-protected; submissions should include “RFI Response: Federal Big Data Research and Development Strategic Plan Update” in the subject line of the message.

• Mail, Attn: Ji Lee, NCO, 2415 Eisenhower Avenue, Alexandria, VA 22314, USA.

Instructions: Response to this RFI (87 FR 39567) is voluntary. Each participating individual or institution is asked to submit only one response. Submissions must not exceed 10 pages in 12-point or larger font, with a page number provided on each page [optional]. Include the name of the person(s) or organization(s) filing the comment in your response. Responses to this RFI (87 FR 39567) may be posted online at https://www.nitrd.gov. Therefore, we request that no business proprietary information, copyrighted information, or sensitive personally identifiable information be submitted as part of your response.

In accordance with FAR 15.202(3), responses to this notice are not offers and cannot be accepted by the Government to form a binding contract. Responders are solely responsible for all expenses associated with responding to this RFI (87 FR 39567).

FOR FURTHER INFORMATION CONTACT: Ji Lee at BDStrategicPlan-RFI@nitrd.gov or (202) 459-9679. Individuals who use a telecommunications device for the deaf (TDD) may call the Federal Information Relay Service (FIRS) at 1-800-877-8339 between 8 a.m. and 8 p.m. (ET) Monday through Friday.

SUPPLEMENTARY INFORMATION: Background: On July 1, 2022, the NITRD NCO and NSF, as part of the NITRD Big Data interagency working group (BD IWG), published in the Federal Register a document requesting input on the work of the IWG to prepare updates to the Federal Big Data Research and Development Strategic Plan. The NITRD Subcommittee of the National Science and Technology Council coordinates multiagency R&D programs to help ensure continued U.S. leadership in networking and information technology, satisfy the needs of the Federal Government for advanced networking and information technology, and accelerate development and deployment of advanced networking and information technology. The RFI (87 FR 39567) was issued to seek input from the public, including academia, government, business, and industry groups of all sizes; those directly performing Big Data research and development (R&D); and those directly affected by such R&D, on ways in which the strategic plan should be revised and improved. The public input provided in response to this RFI (87 FR 39567) will assist the NITRD BD IWG in updating the Federal Big Data Research and Development Strategic Plan. The document stated that the comment period would close on July 29, 2022. The NITRD NCO and NSF have received requests to extend the comment period. An extension of the comment period will provide additional opportunity for the public to consider the RFI (87 FR 39567) and prepare comments to address the questions posed therein. Therefore, NITRD NCO and NSF are extending the end of the comment period for the RFI (87 FR 39567) from July 29, 2022, until August 17, 2022. Submitted by the National Science Foundation in support of the NITRD NCO on July 28, 2022.

Suzanne H. Plimpton,
Reports Clearance Officer, National Science Foundation.

[FR Doc. 2022-16560 Filed 8-2-22; 8:45 am]

BILLING CODE 7555-01-P